DEPARTMENT OF THE TREASURY

United States Secret Service

Appointment of Performance Review Board (PRB) Members

This notice announces the appointment of members of the Senior Executive Service Performance Review Boards in accordance with 5 U.S.C. 4314(c)(4) for the rating period beginning October 1, 2000, and ending September 30, 2001. Each PRB will be composed of at least three of the Senior Executive Service members listed below.

Name and Title

Larry L. Cockell, Deputy Director, U.S. Secret Service

James E. Bauer, Assistant Director, Investigations (USSS)

Carlton D. Spriggs, Assistant Director, Protective Operations (USSS)

Barbara S. Riggs, Assistant Director, Protective Research (USSS)

Dana A. Brown, Assistant Director, Administration (USSS)

George D. Rogers, Assistant Director, Inspection (USSS)

Donald A. Flynn, Assistant Director, Human Resources and Training (USSS)

H. Terrence Samway, Assistant Director, Government Liaison & Public Affairs (USSS)

John J. Kelleher, Chief Counsel (USSS)

FOR FURTHER INFORMATION CONTACT: Sheila M. Lumsden, Chief, Personnel Division, 950 H St., NW., Suite 7400, Washington, DC 20223, Telephone No. (202) 406-5635.

Brian L. Stafford,
Director.

[FR Doc. 01-21362 Filed 8-23-01; 8:45 am]

BILLING CODE 4810-42-M